DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 28, 2000.

Interested persons are invited to submit written comments regarding the subject matter of the investigations to the Director, Division of Trade Adjustment Assistance, at the address shown below, not later than August 28, 2000.

The petitions filed in this case are available for inspection at the Office of the Director, Division of Trade Adjustment Assistance, Employment and Training Administration, U.S. Department of Labor, 200 Constitution Avenue, N.W., Washington, D.C. 20210.

Signed at Washington, DC, this 7th day of August, 2000.
Grant D. Beale,
Program Manager, Division of Trade Adjustment Assistance.

Appendix
[Petitions instituted on 08/07/2000]
TA-W | Subject firm (petitioners) | Location | Date of petition | Product(s)
37,930 | Stanley Works (Comp) | Richmond, VA | 06/28/2000 | Consumer Hardware.
37,931 | Tri State Data Products (Wkrs) | Feasterville, PA | 07/24/2000 | Computer, Office Supplies.
37,932 | Ribco (Wrks) | Providence, RI | 07/24/2000 | Buckles.
37,933 | Scott Logging, Inc (Wrks) | Bend, OR | 07/25/2000 | Logs.
37,934 | Pietrafesa Corp. (The) (Wrks) | Liverpool, NY | 07/10/2000 | Men's Coats, Pants, Suits, Vest.
37,935 | 2158, Inc. (UNITE) | Slatington, PA | 07/20/2000 | Ladies' Pants and Tops.
37,936 | Allied Signal (PACE) | Smethport, PA | 07/20/2000 | Wax—Chemical Refining—Candles, Tires.
37,937 | Wolverine Worldwide (Wrks) | Kirksville, MO | 07/17/2000 | Work Boots.
37,938 | Angelica Image Apparel (Comp) | Louisville, MS | 07/21/2000 | Aprons, Tops and Pants.
37,939 | Forecenergy, Inc. (Comp) | Miami, FL | 07/20/2000 | Oil and Gas Exploration.
37,940 | Clove-land Manufacturing (Comp) | Escanaba, MI | 07/21/2000 | Gasoline Engines.
37,941 | Royal Oak Enterprises (Wrks) | Licking, MO | 07/17/2000 | Lump Charcoal.
37,942 | Unique Finishing, Inc. (Comp) | Wrightsville, GA | 07/19/2000 | Boy's Pants.
37,943 | Ryan International Air (Wrks) | Denver, CO | 07/20/2000 | Flight Attendants and Customer Service.
37,944 | Chief Tonasket Growers (Wrks) | Tonasket, WA | 07/21/2000 | Apple and Pears Packers.
37,945 | VF Workwear/Red Kap Ind (Comp) | Dickson, TN | 07/20/2000 | Occupational Apparel.
37,946 | Heritage Toys (Comp) | Dover-Foxcroft, ME | 07/25/2000 | Gifts, Novelties and Souvenirs.
37,947 | Charles Craft, Inc. (Comp) | Wadesboro, NC | 07/25/2000 | Cotton Yarns.
37,948 | Rock-Tenn Corp. (PACE) | Madison, WI | 07/27/2000 | Folding Cartons.
37,949 | Smith and Nephew, Inc (Comp) | Charlotte, NC | 07/24/2000 | Synthetic Orthopedic Cast Tape.
37,950 | Sauer-Danfoss, Inc. (Wrks) | Racine, WI | 07/11/2000 | Hydraulic Gear Pumps.
37,951 | Williams Energy Services (Wrks) | Houston, TX | 07/25/2000 | Natural Gas Liquids.
37,952 | Ochoco Lumber Co. (Comp) | Prineville, OR | 07/28/2000 | Lumber.

[FR Doc. 00-20769 Filed 8-15-00; 8:45 am]

BILLING CODE 4510-30-M